DEPARTMENT OF ENERGY

Federal Energy Regulatory Commission

[IC07-80-001, FERC Form 80]

Commission Information Collection Activities, Proposed Collection; Comment Request; Extension

August 14, 2007.

AGENCY: Federal Energy Regulatory Commission, DOE.

ACTION: Notice.

SUMMARY: In compliance with the requirements of section 3507 of the Paperwork Reduction Act of 1995, 44 U.S.C. 3507, the Federal Energy Regulatory Commission (Commission) has submitted the information collection described below to the Office of Management and Budget (OMB) for review and reinstatement of this information collection requirement. Any interested person may file comments directly with OMB and should address a copy of those comments to the Commission as explained below. The Commission received comments from two commenters in response to an earlier Federal Register notice of April 16, 2007 (72 FR 18967-68) and has responded to those comments in the justification that it is submitting to OMB. Copies of this submission were also sent to the commenters.

DATES: Comments on the collection of information are due by September 21, 2007.

ADDRESSES: Address comments on the collection of information to the Office of Management and Budget, Office of Information and Regulatory Affairs, Attention: Federal Energy Regulatory Commission Desk Officer. Comments to OMB should be filed electronically, c/o oira_submission@omb.eop.gov and include the OMB Control No. as a point of reference. The Desk Officer may be reached by telephone at 202-395-7345. A copy of the comments should also be sent to the Federal Energy Regulatory Commission, Office of the Executive Director, ED-34, Attention: Michael Miller, 888 First Street, NE., Washington, DC 20426. Comments may be filed either in paper format or electronically. Those persons filing electronically do not need to make a paper filing. For paper filings an original and 14 copies of such comments should be submitted to the Secretary of the Commission, Federal Energy Regulatory Commission, 888 First Street, NE., Washington, DC 20426 and should refer to Docket No. IC07-80-001.

Documents filed electronically via the Internet must be prepared in WordPerfect, MS Word, Portable Document Format, or ASCII format. To file the document, access the Commission's Web site at http://www.ferc.gov and click on “Make an E-Filing,” and then follow the instructions for each screen. First time users will have to establish a user name and password. The Commission will send an automatic acknowledgement to the sender's e-mail address upon receipt of comments. User assistance for electronic filings is available at 202-502-8258 or by e-mail to efiling@ferc.gov. Comments should not be submitted to this e-mail address.

All comments may be viewed, printed or downloaded remotely via the Internet through FERC's homepage using the “eLibrary” link. Enter the docket number excluding the last three digits in the docket number field to access the document. For user assistance, contact FERCOnlineSupport@ferc.gov or toll-free at (866) 208-3676 or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC Form 80 “Licensed Hydropower Development Recreation Report”.

2. Sponsor: Federal Energy Regulatory Commission.

3. Control No. 1902-0106.

The Commission is now requesting that OMB approve and reinstate the information collection for an additional three years.

The FERC Form 80 has been revised to facilitate greater ease to respondents in providing the information. As initially proposed, FERC Form 80 was updated to eliminate data concerning the nearest city and population, since FERC staff can access the information from other sources. Second, FERC staff has clarified the definitions so respondents have a better understanding of the information to be provided. Third, resource data has been updated to include FERC approved recreational sites. Fourth, a new field has been added so that respondents can identify the method used for collecting the data.

In response to the 60-Day Notice of April 16, 2007, commenters proposed additional changes to the FERC Form 80. Specifically, commenters requested the following changes to the collection:

(a) To exclude recreational facilities that are not owned by the licensee even if they are within the project boundary;

(b) To change the report cycle from every six years to seven to 12 years;

(c) To add a trail count as a means to gauge recreation facility occupancy;

(d) To add attendance records as a means to estimate use and facility occupancy;

(e) To clarify in the instructions the types of recreation visits to include both public and private facilities;

(f) To clarify wildlife and hunting areas so that it's clear whether acres or areas are to be reported;

(g) To define the terms “commercial” and “private” use facilities;

(h) To report picnic sites and commercial boat mooring areas as two separate recreational resources; and

(i) To eliminate recreational resources that occurs infrequently, such as golf courses and playground facilities.

Additionally, commentors have questioned the need for the following data elements in the information collection:

(a) Whether FERC approved facilities should include third party resources within the project boundary that must be approved under the standard land use article;

(b) Whether total miles/acres of recreation areas are necessary;

(c) Whether informal/dispersed camp sites should be included; and

(d) Whether organizational camping areas within the project boundary should be included.

Both commentors questioned the Commission's estimate of 3 hours to complete the information collection.

Commission Proposal

The Commission proposes to adopt the following recommendations: A trail count as a means to gauge recreation facility occupancy and the addition of attendance records as a means to estimate use and facility occupancy.

With regard to the other recommendations, the Commission will not adopt them for the following reasons:

(a) The exclusion of recreational facilities that are not owned by the licensee even though they may be within the project boundary.

The goal of the Commission's policy on recreation is to develop the project area in a comprehensive manner. Therefore the data collection is designed to include information on all recreational facilities located within the project boundary, including those provided by other federal, state, and local agencies. Title 18 CFR Part 2.7 encourages licensees to cooperate with other entities to provide recreation opportunities. This cooperation and comprehensive approach to providing recreational access at licensed projects not only provides a better recreation experience, but also addresses impacts to environmental resources in the area by not overlapping an area. The proposed revision to the Form 80 includes a column that identifies which facilities are parts of an approved recreation plan for the project as opposed to those controlled by another entity.

(b) Change the reporting cycle from every six years to seven to twelve years. The FERC Form 80s are collected every 6 years to ensure that recreation facilities are meeting the needs of the public. The Form 80's are used on a regular basis as a tool to evaluate recreation at the projects and the Commission believes 6 years is an appropriate period of time to monitor use.

(c) To clarify in the instructions the types of recreation visits to include both public and private facilities.

The recreation visits should include all recreation days at projects at approved facilities, facilities provided by other entities, and general access areas. It does not include visits to private or residential docks or to facilities outside the project boundary.

(d) To clarify wildlife and hunting areas so that it's clear whether acres or areas are to be reported.

These are areas within the FERC project boundary that can be used for wildlife viewing and hunting.

(e) To define the terms “commercial” and “private” use facilities. The Commission does not distinguish between private and commercial recreation facilities.

(f) To report picnic sites and commercial boat mooring areas as two separate recreational resources.

We do not believe these types of resources need to be reported separately. If necessary during a project specific review, we will request these types of details from the licensee.

(g) To eliminate recreational resources that occurs infrequently, such as golf courses and playground facilities.

We have eliminated or combined some facilities over previous Form 80s. We believe the facilities currently reported on the Form 80 are representative of all recreational opportunities currently available at hydropower projects. For example, golf courses are an important recreational feature at projects throughout the southeast.

In response to commenters' concerns of whether the following information was necessary on the FERC Form 80, we provide the following:

(a) Whether FERC approved facilities should include third party resources within the project boundary that must be approved under the standard land use article.

FERC Approved Resources means those facilities that are required in an approved recreation plan or subsequent amendments or those identified in an Exhibit E filed with the license and approved. It does not include facilities approved as non-project uses of project lands and water.

(b) Whether total miles/acres of recreation areas are necessary.

We use total miles/acres to determine the need for additional facilities.

(c) Whether informal/dispersed camp sites should be included.

Informal/dispersed camping can be included in access areas.

(d) Whether organizational camping areas within the project boundary should be included.

All recreation areas should be reported, not just public recreation.

(e) Underestimation of the reporting burden. Both commenters believe the Commission has underestimated the amount of time it takes to complete the Form 80 (3 hours).

The Commission's estimate of the time to complete the Form 80s is an average of its licensees ranging from large complicated projects with extensive recreation to smaller less developed projects. In an effort to minimize the burden to licensees, we have eliminated some data fields where the information may be readily available from other sources. Data collection can take place in conjunction with other required monitoring or with other activities at the project such as water quality or dissolved oxygen sampling or general maintenance of the facilities.

4. Necessity of the Collection of Information: Submission of the information is necessary for the Commission to carry out its responsibilities in implementing the statutory provisions of the sections 4(a), 10(a), 301(a), 304 and 309 of the Federal Power Act (FPA). The authority for the Commission to collect this information comes from Section 10(a) of the FPA which requires the Commission to be responsible for ensuring those hydro projects subjects to its jurisdiction are consistent with the comprehensive development of the nation's waterway for recreation and other beneficial public uses.

In the interest of fulfilling these objectives, the Commission expects licensees subject to its jurisdiction, to recognize the resources that are affected by their activities and to play a role in protecting such resources. The information filed with the Commission is mandatory.

5. Respondent Description: The respondent universe currently comprises 400 entities (on average) subject to the Commission's jurisdiction.

6. Estimated Burden: 1,200 total hours, 400 respondents (average), 1 response per respondent, and 3 hours per response (rounded off and average time).

7. Estimated Cost Burden to respondents: 1,200 hours/2080 hours per years × $122,137 per year = $70,464. The cost per respondent is equal to $176 (rounded off).

Statutory Authority: Statutory provisions of sections 4(a), 10(a), 301(a), 304 and 309 of the Federal Power Act, 16 U.S.C. 797, 803, 825c and 825h.

Kimberly D. Bose,
Secretary.

[FR Doc. E7-16386 Filed 8-20-07; 8:45 am]

BILLING CODE 6717-01-P